DEPARTMENT OF HEALTH AND HUMAN SERVICES

Food and Drug Administration

[Docket No. 00E-1250]

Determination of Regulatory Review Period for Purposes of Patent Extension; Synercid; Correction

AGENCY: Food and Drug Administration, HHS.

ACTION: Notice; correction.

SUMMARY: The Food and Drug Administration (FDA) is correcting a notice that appeared in the Federal Register of September 21, 2001 (66 FR 486920). The document determined the regulatory review period for Synercid and published the notice of that determination as required by law. The document published with an inadvertent error. This document corrects that error.

DATES: October 17, 2001.

FOR FURTHER INFORMATION CONTACT: Joyce Strong, Office of Policy, Planning, and Legislation (HF-27), Food and Drug Administration, 5600 Fishers Lane, Rockville, MD 20857, 301-827-7010.

SUPPLEMENTARY INFORMATION: In FR Doc. 01-23703, appearing on page 48690 in the Federal Register of Friday, September 21, 2001, the following correction is made: On page 48690, in the second column, “Docket No. 01E-1250]” is corrected to read “[Docket No. 00E-1250]”.

Dated: October 10, 2001.
Margaret M. Dotzel,
Associate Commissioner for Policy.

[FR Doc. 01-25998 Filed 10-16-01; 8:45 am]

BILLING CODE 4160-01-S